DEPARTMENT OF VETERANS AFFAIRS

Tribal Health Programs—Community Care Consolidation

AGENCY: Department of Veterans Affairs.

ACTION: Notice of tribal consultation.

SUMMARY: The Department of Veterans Affairs (VA), Veterans Health Administration (VHA) will facilitate a Tribal Consultation on VHA's effort to improve continuity of care and health care access for Veterans by consolidating multiple community care programs, previously known as non-VA care, into one standard program with standard rates. In October 2015, VA submitted to Congress the Plan to Consolidate Programs of Department of Veterans Affairs to Improve Access to Care, http://www.va.gov/opa/publications/VA_Community_Care_Report_11_03_2015.pdf, which lays out the vision for a consolidated community care program that is easy to understand, simple to administer, and meets the needs of Veterans, community providers, and VA staff. As VA continues to move forward with implementing the vision of the Plan, we again seek tribal input to assist VA in developing the network of providers in a manner that would build on VA's existing relationships with tribal health programs and facilitate future collaboration to improve health care services provided to all eligible, VA-enrolled Veterans, regardless of whether they are eligible for Indian Health Service-funded health care or not. We are seeking tribal consultation regarding the tribal health programs' participation in the core provider network, as outlined in the Plan, and potentially transitioning from the current reimbursement agreement structure to a model under which tribal health programs deliver care to all eligible, VA enrolled Veterans, using a standard reimbursement rate based on Medicare rates.

DATES: Comments must be received by VA on or before November 30, 2016.

ADDRESSES: Written comments should be submitted by email at Tribalgovernmentconsultation@va.gov, by fax at 202-273-5716, or by mail at U.S. Department of Veterans Affairs, Suite 915L, 810 Vermont Avenue NW., Washington, DC 20420.

FOR FURTHER INFORMATION CONTACT: Majed Ibrahim, VA Office of Community Care, VHA at (562) 400-3134 (this is not a toll-free number), or by email at majed.ibrahim@va.gov.

SUPPLEMENTARY INFORMATION: VA is seeking consultation and comments on the following questions:

(1) What would be the impact of transitioning from the existing reimbursement agreement structure, which requires each tribe to enter into an individual reimbursement agreement with VA, to a standard arrangement for reimbursement of direct care services provided to eligible Veterans managed by a third party administrator for VA?

(2) Would tribal health programs be interested in expanding direct care services under this new structure to include reimbursements for care provided to all Veterans enrolled in VA health care, regardless of whether they are eligible for health care funded by Indian Health Service (IHS) or not?

(3) Would tribal health programs be interested in receiving standard reimbursement rates based on Medicare rates plus a feasible percentage of those rates to minimize improper payments and comply with industry standards?

(4) Would tribal health programs be interested in extending existing reimbursement agreements between VA and tribal health programs through December 2018 and ensuring any new reimbursement agreements between VA and tribal health programs extend through December 2018, as VA works in collaboration with tribes and other VA stakeholders on implementing a consolidated community care program?

Tribal leaders and/or their designated representatives and other interested parties are invited to attend and provide comments during the in-person consultation and/or submit written comments.

Dated: November 9, 2016.
Jeffrey Martin,
Office Program Manager, Office of Regulation Policy & Management, Office of the Secretary, Department of Veterans Affairs.

[FR Doc. 2016-27436 Filed 11-14-16; 8:45 am]

BILLING CODE 8320-01-P